SOCIAL SECURITY ADMINISTRATION

[Docket No: SSA-2021-0024]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online referencing Docket ID Number [SSA-2021-0024].

(SSA) Social Security Administration, OLCA, Attn: Reports Clearance Director, 3100 West High Rise, 6401 Security Blvd., Baltimore, MD 21235, Fax: 410-966-2830, Email address: OR.Reports.Clearance@ssa.gov

Or you may submit your comments online through https://www.reginfo.gov/public/do/PRAMain, referencing Docket ID Number [SSA-2021-0024].

I. The information collections below are pending at SSA. SSA will submit them to OMB within 60 days from the date of this notice. To be sure we consider your comments, we must receive them no later than October 19, 2021. Individuals can obtain copies of the collection instruments by writing to the above email address.

1. Request for Waiver of Overpayment Recovery and Request for Change in Overpayment Recovery Rate—20 CFR 404.502, 404.506-404.512, 416.550-416.558, 416.570-416.571—0960-0037. When Social Security beneficiaries and Supplemental Security Income (SSI) recipients receive an overpayment, they must return the extra money. These beneficiaries and recipients can use Form SSA-632-BK, Request for Waiver of Overpayment Recovery, to request a waiver from repaying their overpayment. Beneficiaries and recipients can also use Form SSA-634, Request for Change in Overpayment Recovery Rate, to request a change to the monthly recovery rate of their overpayment. The respondents must provide financial information to help the agency determine how much the overpaid person can afford to repay each month. The respondents are individuals who are overpaid Social Security or SSI payments who are requesting: (1) A waiver of recovery of an overpayment, or (2) a lesser rate of withholding.

Type of Request: Revision of an OMB-approved information collection.

Modality of completion | Number of respondents | Frequency of response | Average burden per response (minutes) | Estimated total annual burden (hours) | Average theoretical hourly cost amount (dollars)* | Average wait time in field office or for teleservice centers (minutes)** | Total annual opportunity cost (dollars)***
SSA-632—Request for Waiver of Overpayment Recovery (If completing entire paper form, including the AFI authorization) | 400,000 | 1 | 120 | 800,000 | * $10.95 | ** 21 | *** $10,293,000
SSA-634—Request for Change in Overpayment Recovery Rate (Completing paper form) | 100,000 | 1 | 45 | 75,000 | * 10.95 | ** 21 | *** 1,204,500
Totals | 500,000 |  |  | 875,000 |  |  | *** 11,497,500
* We based this figure on the average DI payments based on SSA's current FY 2021 data (https://www.ssa.gov/legislation/2021FactSheet.pdf).
** We based this figure on averaging both the average FY 2021 wait times for field offices and teleservice centers, based on SSA's current management information data.
*** This figure does not represent actual costs that SSA is imposing on recipients of Social Security payments to complete this application; rather, these are theoretical opportunity costs for the additional time respondents will spend to complete the application. There is no actual charge to respondents to complete the application.

2. Statement of Claimant or Other Person—20 CFR 404.702 and 416.570—0960-0045. SSA uses Form SSA-795, Statement of Claimant or Other Person, in special situations where there is no authorized form or questionnaire, yet we require a signed statement from the applicant, claimant, or other individuals who have knowledge of facts, in connection with claims for Social Security benefits or SSI. The information we request on the SSA-795 is of sufficient importance that we need both a signed statement and a penalty clause. SSA uses this information to process, in addition to claims for benefits, issues about continuing eligibility; ongoing benefit amounts; use of funds by a representative payee; fraud investigation; and other program-related matters. The most common respondents are applicants for, or recipients of, Social Security or SSI. Respondents also include friends and relatives of the involved parties, coworkers, neighbors, or anyone else in a position to provide information pertinent to the issue(s).

Type of Request: Revision of an OMB-approved information collection.

Modality of completion | Number of respondents | Frequency of response | Average burden per response (minutes) | Estimated total annual burden (hours) | Average theoretical hourly cost amount (dollars)* | Average wait time in field office (minutes)** | Total Annual Opportunity Cost (dollars)***
SSA-795 (paper version) | 207,239 | 1 | 15 | 51,810 | * $10.95 | ** 24 | *** $1,475,031
SSA-795 (Person Statement) electronic version | 24,583 | 1 | 15 | 6,146 | * 27.07 |  | *** 166,372
Totals | 231,822 |  |  | 57,956 |  |  | *** 1,641,403
* We based these figures on the average DI payments based on SSA's current FY 2021 data (https://www.ssa.gov/legislation/2021FactSheet.pdf) and on the average U.S. worker's hourly wages, as reported by Bureau of Labor Statistics data (https://www.bls.gov/oes/current/oes_nat.htm#00-0000).
** We based this figure on the average FY 2021 wait times for field offices, based on SSA's current management information data.
*** This figure does not represent actual costs that SSA is imposing on recipients of Social Security payments to complete this application; rather, these are theoretical opportunity costs for the additional time respondents will spend to complete the application. There is no actual charge to respondents to complete the application.

3. Claimant's Medications—20 CFR 404.1512 and 416.912—0960-0289. In cases where claimants request a hearing after denial of their disability claim for Social Security, SSA uses Form HA-4632, Claimant's Medications, to request information from the claimant regarding the medications they use. This information helps the judge overseeing the case to fully investigate: (1) The claimant's medical treatment and (2) the effects of the medications on the claimant's medical impairments and functional capacity. The judge makes the completed form a part of the documentary evidence of record, placing it in the official record of the proceedings as an exhibit. The respondents are applicants (or their representatives) for Old Age Survivors and Disability Insurance (OASDI) benefits or SSI payments who request a hearing to contest an agency denial of their claim.

Type of Request: Revision of an OMB-approved information collection.

Modality of completion | Number of respondents | Frequency of response | Average burden per response (minutes) | Estimated total annual burden (hours) | Average theoretical hourly cost amount (dollars)* | Average wait time in field office (minutes)** | Total Annual Opportunity Cost (dollars)***
HA-46321—PDF/paper version | 53,200 | 1 | 15 | 13,300 | * $10.95 | ** 24 | *** $378,651
Electronic Records Express Submissions | 136,800 | 1 | 15 | 34,200 | * 27.07 |  | *** 925,794
Totals | 190,000 |  |  | 47,500 |  |  | *** 1,304,445
* We based this figure on the average DI payments based on SSA's current FY 2021 data (https://www.ssa.gov/legislation/2021FactSheet.pdf) and on the average U.S. worker's hourly wages, as reported by Bureau of Labor Statistics data (https://www.bls.gov/oes/current/oes_nat.htm#00-0000).
** We based this figure on the average FY 2021 wait times for field offices, based on SSA's current management information data.
*** This figure does not represent actual costs that SSA is imposing on recipients of Social Security payments to complete this application; rather, these are theoretical opportunity costs for the additional time respondents will spend to complete the application. There is no actual charge to respondents to complete the application.

4. Disability Report-Adult—20 CFR 404.1512 and 416.912—0960-0579. State Disability Determination Services (DDS) use Form SSA-3368, Disabilty Report—Adult, and its electronic versions, to determine if adult disability applicants' impairments are severe and, if so, how the impairments affect the applicants' ability to work. This determination informs whether the DDSs and SSA will find the applicant to be disabled and entitled to SSI payments. The respondents are applicants for Title II disability benefits or Title XVI SSI payments.

Type of Request: Revision of an OMB-approved information collection.

Modality of completion | Number of respondents | Frequency of response | Average burden per response (minutes) | Estimated total annual burden (hours) | Average theoretical hourly cost amount (dollars)* | Average wait time in field office (minutes)** | Total Annual Opportunity Cost (dollars)***
SSA-3368 (Paper) | 6,045 | 1 | 90 | 9,068 | * $10.95 | ** 21 | *** $122,465
EDCS 3368 (Intranet) | 1,263,104 | 1 | 90 | 1,894,656 | * 10.95 | ** 21 | *** 25,587,325
i3368 (Internet) | 989,361 | 1 | 90 | 1,484,042 | * 10.95 |  | *** 16,250,260
Totals | 2,258,510 |  |  | 3,387,766 |  |  | *** 41,960,050
* We based this figure on the average DI payments based on SSA's current FY 2021 data (https://www.ssa.gov/legislation/2021FactSheet.pdf).
** We based this figure on averaging both the average FY 2021 wait times for field offices and teleservice centers, based on SSA's current management information data.
*** This figure does not represent actual costs that SSA is imposing on recipients of Social Security payments to complete this application; rather, these are theoretical opportunity costs for the additional time respondents will spend to complete the application. There is no actual charge to respondents to complete the application.

5. Request for internet Services and 800# Automated Telephone Services Knowledge-Based Authentication (RISA-KBA)—20 CFR 401.45—0960-0596. The Request for internet Services and 800# Automated Telephone Services (RISA) Knowledge-Based Authentication (KBA) is one of the authentication methods SSA uses to allow individuals access to their personal information through our internet and Automated Telephone Services. SSA asks individuals and third parties who seek personal information from SSA records, or who register to participate in SSA's online business services, to provide certain identifying information. As an extra measure of protection, SSA asks requestors who use the internet and telephone services to provide additional identifying information unique to those individuals so SSA can authenticate their identities before releasing personal information. The respondents are current beneficiaries who are requesting personal information from SSA, and individuals and third parties who are registering for SSA's online business services.

Type of Request: Revision of an OMB-approved information collection.

Modality of completion | Number of respondents | Frequency of response | Average burden per response (minutes) | Estimated total annual burden (hours) | Average theoretical hourly cost amount (dollars) * | Total annual opportunity cost (dollars) **
Internet Requestors | 2,921,795 | 1 | 3 | 146,090 | * $27.07 | ** $3,954,656
Telephone Requestors | 1,157,833 | 1 | 4 | 77,189 | * 27.07 | ** 2,089,506
Totals | 4,079,628 |  |  | 223,279 |  | ** 6,044,162
* We based this figure on the average U.S. worker's hourly wages, as reported by Bureau of Labor Statistics data (https://www.bls.gov/oes/current/oes_nat.htm#00-0000).
** This figure does not represent actual costs that SSA is imposing on recipients of Social Security payments to complete this application; rather, these are theoretical opportunity costs for the additional time respondents will spend to complete the application. There is no actual charge to respondents to complete the application.

6. Testimony by Employees and the Production of Records and Information in Legal Proceedings—20 CFR 403.100-403.155—0960-0619. SSA's regulations establish policies and procedures for an individual, organization, or government entity to request official agency information, records, or testimony of an agency employee in a legal proceeding when the agency is not a party. The request, which respondents submit in writing, must: (1) Fully set out the nature and relevance of the sought testimony; (2) explain why the information is not available by other means; (3) explain why it is in SSA's interest to provide the testimony; and (4) provide the date, time, and place for the testimony. Respondents are individuals or entities who request testimony from SSA employees in connection with a legal proceeding.

Type of Request: Extension of an OMB-approved information collection.

Modality of completion | Number of respondents | Frequency of response | Average burden per response (minutes) | Estimated total annual burden (hours) | Average theoretical hourly cost amount (dollars) * | Total annual opportunity cost (dollars) **
20 CFR 403.100-403.155 | 100 | 1 | 60 | 100 | * $27.07 | ** $2,707
* We based this figure on the average U.S. worker's hourly wages, as reported by Bureau of Labor Statistics data (https://www.bls.gov/oes/current/oes_nat.htm#00-0000).
** This figure does not represent actual costs that SSA is imposing on recipients of Social Security payments to complete this application; rather, these are theoretical opportunity costs for the additional time respondents will spend to complete the application. There is no actual charge to respondents to complete the application.

7. Certification of Prisoner Identity Information—20 CFR 422.107—0960-0688. Inmates of Federal, State, or local prisons may need a Social Security card as verification of their Social Security number for school or work programs, or as proof of employment eligibility upon release from incarceration. Before SSA can issue a replacement Social Security card, applicants must show SSA proof of their identity. People who are in prison for an extended period typically do not have current identity documents. Therefore, under written agreement with the correctional institution, SSA allows prison officials to verify the identity of certain incarcerated U.S. citizens who need replacement Social Security cards. Prison officials provide SSA information from the official prison files, sent on correctional facility letterhead. SSA uses this information to establish the applicant's identity in the replacement Social Security card process. The respondents are prison officials who certify the identity of prisoners applying for replacement Social Security cards.

Type of Request: Extension of an OMB-approved Information Collection

Modality of completion | Number of respondents | Frequency of response | Number of responses | Average burden per response (minutes) | Estimated total annual burden (hours) | Average theoretical hourly cost amount (dollars) * | Total annual opportunity cost (dollars) **
Verification of Prisoner Identity Statements | 1,000 | 200 | 200,000 | 3 | 10,000 | * $28.80 | ** $288,000
* We based this figure on average Probation Officers and Correctional Treatment Specialists hourly salary, as reported by Bureau of Labor Statistics data (https://www.bls.gov/oes/current/oes211092.htm).
** This figure does not represent actual costs that SSA is imposing on recipients of Social Security payments to complete this application; rather, these are theoretical opportunity costs for the additional time respondents will spend to complete the application. There is no actual charge to respondents to complete the application.

II. SSA submitted the information collection below to OMB for clearance. Your comments regarding this information collection would be most useful if OMB and SSA receive them 30 days from the date of this publication. To be sure we consider your comments, we must receive them no later than September 20, 2021. Individuals can obtain copies of this OMB clearance package by writing to OR.Reports.Clearance@ssa.gov.

Authorization for the Social Security Administration to Obtain Account Records from a Financial Institution and Request for Records (Medicare)—20 CFR 418.3420—0960-0729. The Medicare Prescription Drug, Improvement, and Modernization Act of 2003 (MMA) established the Medicare Part D program for voluntary prescription drug coverage of premium, deductible, and copayment costs for individuals with limited income and resources. The MMA mandates that the Government provide subsidies for those individuals who qualify for the program, and who meet eligibility criteria for help with premium, deductible, or co-payment costs. SSA uses the SSA-4640, Authorization for the Social Security Administration to Obtain Account Records from a Financial Institution and Request for Records (Medicare), to determine if subsidy applicants or recipients qualify, or continue to qualify, for the subsidy. SSA uses Form SSA-4640 to: (1) Obtain the individual's consent to verify balances of financial institution (FI) accounts; and (2) obtain verification of such balances from the FI. Respondents are Medicare Part D program subsidy applicants or claimants, and their financial institutions.

Type of Request: Revision of an OMB-approved information collection.

Modality of completion | Number of respondents | Frequency of response | Average burden per response (minutes) | Estimated total annual burden (hours) | Average theoretical hourly cost amount (dollars) * | Total annual opportunity cost (dollars) **
Medicare Part D Subsidy Applicants | 5,000 | 1 | 1 | 83 | * $10.95 | ** $909
Financial Institutions | 5,000 | 1 | 4 | 333 | * 37.56 | ** 12,507
Totals | 10,000 |  |  | 416 |  | ** 13,416
* We based these figures on the average DI payments based on SSA's current FY 2021 data https://www.ssa.gov/legislation/2021FactSheet.pdf), and the average Business and Financial operations occupations, as reported by Bureau of Labor Statistics data (https://www.bls.gov/oes/current/oes130000.htm).
** This figure does not represent actual costs that SSA is imposing on recipients of Social Security payments to complete this application; rather, these are theoretical opportunity costs for the additional time respondents will spend to complete the application. There is no actual charge to respondents to complete the application.

Dated: August 17, 2021.
Naomi Sipple,
Reports Clearance Officer, Social Security Administration.

[FR Doc. 2021-17857 Filed 8-19-21; 8:45 am]

BILLING CODE 4191-02-P